DEPARTMENT OF HEALTH AND HUMAN SERVICES

National Institutes of Health

National Center for Complementary & Integrative Health; Amended Notice of Meeting

Notice is hereby given of a change in the meeting of the National Advisory Council for Complementary and Integrative Health, January 24, 2025, 10:00 a.m. to January 24, 2025, 4:00 p.m., National Institutes of Health, DEM 2, 6707 Democracy Boulevard, Bethesda, MD, 20892 which was published in the Federal Register on September 25, 2024, 89 FR 78318.

The notice is being amended to change the start and end times of the open session portion of the meeting. The open session start time has changed from 12:30 p.m. to 1:00 p.m. and the end time has changed from 4:00 p.m. to 5:00 p.m. This meeting is partially closed to the public.

Dated: November 8, 2024.
David W Freeman,
Supervisory Program Analyst, Office of Federal Advisory Committee Policy.

[FR Doc. 2024-26527 Filed 11-13-24; 8:45 am]

BILLING CODE 4140-01-P